JUDICIAL CONFERENCE OF THE UNITED STATES

Meeting of the Judicial Conference Advisory Committee on Rules of Bankruptcy Procedure

AGENCY: Judicial Conference of the United States, Advisory Committee on Rules of Bankruptcy Procedure.

ACTION: Additional day of open meeting.

SUMMARY: The meeting of the Advisory Committee on Rules of Bankruptcy Procedure has added one additional day. The meeting will be held on March 8-10, 2006. The tree-day meeting will start each day at 8:30 a.m., and will be held at the University of North Carolina School of Law, Ridge Road, Van Hecke-Wettach Hall, in Chapel Hill, North Carolina. [Original notice of the meeting appeared in the Federal Register of September 13, 2005.]

FOR FURTHER INFORMATION CONTACT: John K. Rabiej, Chief, Rules Committee Support Office, Administrative Office of the United States Courts, Washington, DC 20544, telephone (202) 502-1820.

Dated: November 21, 2005.
John K. Rabiej,
Chief, Rules Committee Support Office.

[FR Doc. 05-23326 Filed 11-25-05; 8:45 am]

BILLING CODE 2210-55-M